DEPARTMENT OF COMMERCE

National Oceanic and Atmospheric Administration

[RTID 0648-XC609]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will host a Seminar Series presentation on NOAA's Recent Deep-Sea Coral Related Research, Exploration, and Mapping in the U.S. South Atlantic via webinar on January 10, 2023.

DATES: The webinar presentation will be held on Tuesday, January 10, 2023, from 1 p.m. until 2:30 p.m.

ADDRESSES: The presentation will be provided via webinar. The webinar is open to members of the public. Information, including a link to webinar registration will be posted on the Council's website at https://safmc.net/safmc-seminar-series/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from NOAA entitled “NOAA's Recent Deep-Sea Coral Related Research, Exploration, and Mapping in the U.S. South Atlantic”. This presentation will share highlights of research funded by NOAA's Deep-Sea Coral Research & Technology Program between 2016 and 2019, and exploration and mapping conducted by NOAA Ocean Exploration in the South Atlantic region. Highlights include a summary of discoveries from nine expeditions to collect seafloor imagery, including the largest known deep-sea coral reef province in the world, and major mapping advances on the Blake Plateau and surrounding areas. A question-and-answer session will follow the presentation. Members of the public will have the opportunity to participate in the discussion. The presentation is for informational purposes only and no management actions will be taken.

Special Accommodations

The meeting is physically accessible to people with disabilities. Requests for auxiliary aids should be directed to the Council office (see ADDRESSES) five days prior to the meeting.

Note: The times and sequence specified in this agenda are subject to change.

Authority: 16 U.S.C. 1801 et seq.

Dated: December 9, 2022.
Diane M. DeJames-Daly,
Acting Deputy Director, Office of Sustainable Fisheries, National Marine Fisheries Service.

[FR Doc. 2022-27113 Filed 12-13-22; 8:45 am]

BILLING CODE 3510-22-P